DEPARTMENT OF TRANSPORTATION

Coast Guard

[USCG-1998-3584]

Proposed Modernization of the Coast Guard National Distress and Response System

AGENCY: Coast Guard, DOT.

ACTION: Notice of aaailability of supplemental program environmental assessment.

SUMMARY: The U.S. Coast Guard announces the availability of the Supplemental Program Environmental Assessment for the National Distress and Response System Modernization Project (NDRSMP). The Supplemental PEA provides an update to and supplements environmental information to the Programmatic Environmental Assessment that was issued in July 1998. The Coast Guard is requesting comments on the alternatives and the potential environmental impacts as a result of NDRSMP.

DATES: Comments and related material must reach the Docket Management Facility on or before October 28, 2002.

ADDRESSES: To make sure your comments and related material are not entered more than once in the docket, please submit them by only one of the following means:

(1) By mail to the Docket Management Facility (USCG-1998-3584), U.S. Department of Transportation, Room PL-401, 400 Seventh Street, SW., Washington, DC 20590-0001.

(2) By delivery to Room PL-401 on the Plaza level of the Nassif Building, 400 Seventh Street, SW., Washington DC, between 9 a.m. and 5 p.m., Monday through Friday, except Federal holidays. The telephone number is 202-366-9329.

(3) By fax to the Docket Management Facility at 202-493-2251.

(4) Electronically through the Internet for the Docket Management System at http://dms.dot.gov.

In choosing among these means, please give due regard to recent difficulties and delays associated with delivery of mail through the U.S. Postal Service to Federal facilities.

The Docket Management Facility maintains the public docket for this notice. Comments and material received from the public, as well as the Supplemental Program Environmental Assessment, will become part of this docket and will be available for inspection or copying at Room PL-401 on the Plaza level of the Nassif Building, 400 Seventh Street, SW., Washington DC, between 9:00 a.m. and 5:00 p.m., Monday through Friday, except Federal holidays. You may also find this docket, including the SPEA, on the Internet at http://www.dms.dot.gov.

FOR FURTHER INFORMATION CONTACT: If you have questions on this notice, the proposed project, or the associated Environmental Assessment, contact Ms. Donna M. Meyer, Environmental Program Manager, National Distress and Response System Modernization Project, U.S. Coast Guard Headquarters, 202-267-1496. For questions on viewing or submitting material to the docket, contact Ms. Dorothy Beard, Chief, Dockets, DOT, at 202-366-9329.

SUPPLEMENTARY INFORMATION:

Request for Comments

Comments and related material on the Supplemental Program Environmental Assessment (SPEA) are encouraged. Please provide the name and address of the comment originator, identify the docket number for this notice (USCG-1998-3584), and provide background support for each comment. You may submit your comments and material by mail, hand delivery, fax, or electronic means to the Docket Management Facility at the address under ADDRESSES; but please submit your comments and material by only one means. When submitting by mail or hand delivery, submit your comments or material in an unbound format, no larger than 8½ by 11 inches, suitable for copying and electronic filing. If you submit them by mail and would like to know if the comments and/or material were received by the facility, please enclose a stamped, self-addressed postcard or envelope. The Coast Guard will consider all comments and material received during the comment period.

Proposed Action

The U.S. Coast Guard intends to modernize its National Distress and Response System (NDRS). The NDRS forms the backbone of the Coast Guard's Short Range Communication System (SRCS) that supports a wide range of Coast Guard operations, including Activity, Group, Marine Safety Office (MSO), Vessel Traffic Service (VTS), Air Station, Cutter and Station operations. As part of the SRCS, the NDRS incorporates the use of VHF-FM radios to provide two-way voice communications coverage for the majority of Coast Guard missions in coastal areas and navigable waterways where commercial and recreational traffic exists. The NDRS consists of approximately 300 remotely-controlled VHF transceivers and antenna sites, and was originally intended for monitoring the international VHF-FM maritime distress frequency (Channel 16), and as the primary command and control network to coordinate Coast Guard search and rescue (SAR) response activities. The secondary function was to provide command, control, and communications for the Coast Guard missions of National Security, Maritime Safety, Law Enforcement, and Marine Environmental Protection.

In July 1998, the Coast Guard published a Programmatic Environmental Assessment (PEA) that considered general concepts for a new system to modernize the current obsolete and nonstandard National Distress System (NDS). The alternatives considered by the Coast Guard included:

Alternative A—Status Quo.

Alternative B—Upgrade status quo by systematically upgrading the existing network with modern analog transceivers. This alternative replaces old equipment with new equipment and adds additional radio capability. It is expected this alternative would require additional antenna sites.

Alternative C—Dual Mode VHF and/or UHF Network replaces existing analog network with dual mode (digital and analog) transceivers. It is expected this alternative would require additional antenna sites.

Alternative D—Multi-mode: Satellite, Cellular, VHF and/or UHF Network. This alternative replaces the existing network with multi-mode equipment that uses satellite, cellular, and VHF/UHF communications. It is expected that this alternative would require additional antenna sites.

Alternatives B, C, and D would all require approximately the same number of additional antenna sites. Since 1998, new circumstances and relevant information regarding the deployment of the system to an existing antenna site, or leasing an antenna site, or constructing a new antenna site as well as the Coast Guard's preference for Alternative C called for preparation of a Supplemental Program Environmental Assessment to consider any environmental impacts that were previously not taken into account.

Supplemental Programmatic Environmental Assessment

The Coast Guard has prepared a Supplemental Program Environmental Assessment (SPEA). The SPEA identifies and examines those reasonable alternatives to effectively deploy the modernized NDRS. The SPEA analyzed the no action alternative and three action alternatives that could fulfill the need and meet system requirements. The successful deployment of the NDRS will utilize a combination of only the action alternatives by using an existing antenna, leasing antenna space from a service provider, or constructing a new antenna site. The SPEA is a program document meant to provide a broad environmental review of a Federal agency's (Coast Guard) national program. In this case, the SPEA has provided a broad, general view of the environmental impacts that can be anticipated by modernizing and deploying the NDRS nationwide. The SPEA cannot foresee all possible site specific and cumulative environmental impacts as a result of implementing any of the action alternatives. However, once specific and individual sites have been identified for deployment of the NDRS, those sites will undergo a more narrow environmental review (tiering). This narrower environmental review of individual and specific sites will result in the issuance of either (1) Categorical Exclusion, (2) Finding of No Significant Impact (FONSI), or (3) Environmental Impact Statement (EIS).

The purpose of this Notice of Availability is to inform the public, local, State, and Federal government agencies that a Supplemental PEA is available for review and comment. You are encouraged to submit your comments, information, or other relevant observations concerning the merits of the alternatives and potential environmental impacts relating to the deployment and installation of the National Distress and Response System Modernization Project. Coordination with appropriate Federal, State and local agencies, and private organizations and citizens who have expressed interest in this proposal has been undertaken and will continue. All comments will be considered in either the preparation of a FONSI or the development of an EIS (if necessary).

Dated: September 13, 2002.
C.D. Wurster,
RADM, U.S. Coast Guard, Assistant Commandant for Acquisitions.

[FR Doc. 02-24729 Filed 9-27-02; 8:45 am]

BILLING CODE 4910-15-P